DEPARTMENT OF DEFENSE

Office of the Secretary

Notice of Meeting

AGENCY: Department of Defense Retirement Board of Actuaries.

ACTION: Notice of meeting.

SUMMARY: A meeting of the board has been scheduled to execute the provisions of Chapter 74, Title 10, United States Code (10 U.S.C. 1464 et seq.). The Board shall review DoD actuarial methods and assumptions to be used in the valuation of the Military Retirement System. Persons desiring to: (1) attend the DoD Retirement Board of Actuaries meeting or, (2) make an oral presentation or submit a written statement for consideration at the meeting, must notify Inger Pettygrove at (703) 696-7413 by July 24, 2001.

Notice of this meeting is required under the Federal Advisory Committee Act.

DATES: August 9, 2001, 1:00 pm to 5:00 pm.

ADDRESSES: The Pentagon, Room 1E801—Rooms 2 and 3.

FOR FURTHER INFORMATION CONTACT: Christopher Doyle, Chief Actuary, DoD Office of the Actuary, 1555 Wilson Boulevard, Suite 701, Arlington, VA 22209-2405, (703) 696-7407.

Dated: June 12, 2001.
Patricia L. Toppings,
Alternate OSD Federal Register Liaison Officer, Department of Defense.

[FR Doc. 01-15402 Filed 6-18-01; 8:45 am]

BILLING CODE 5001-08-M